DEPARTMENT OF ENERGY

Federal Energy Regulatory Commission

18 CFR Part 35

[RM13-2-000; Order No. 792]

Small Generator Interconnection Agreements and Procedures

Correction

In rule document 2013-28515 appearing on pages 72340-73354 in the issue of Thursday, December 5, 2013, make the following corrections:

1. On page 73246, in the first column, in footnote 66, “See supra P 0” should read “See supra P 23”.

2. On the same page, in the same column, in footnote 67, “See supra P 0” should read “See supra P 22”.

3. On the same page, in the same column, in footnote 69, “See supra P 0” should read “See supra P 17”.

4. On page 73249, in the third column, in footnote 128, “See, e.g., supra P 0” should read “See, e.g., supra P 54”.

5. On page 73250, in the second column, in footnote 148, “See supra P 0” should read “See supra P 39”.

6. On the same page, in the third column, in footnote 149, “See infra P 0” should read “See infra P 81”.

7. On page 73256, in the third column, in footnote 226, “See infra P 0” should read “See infra P 237”.

8. On page 73259, in the second column, in footnote 284, “See supra P 0” should read “See supra P 12”.

9. On page 73260, in the first column, in footnote 296, “(see infra P 0)” should read “(see infra P 186)”.

10. On page 73262, in the first column, in footnote 317, “See infra P 0” should read “See infra P 186”.

11. On page 73269, in the second column, in footnote 424, “See supra PP 0-0” should read “See supra PP 22-23”.

12. On page 73270, in the first column, in footnote 431, “See infra P 0” should read “See infra P 270”.

[FR Doc. C1-2013-28515 Filed 1-6-14; 8:45 am]

BILLING CODE 1505-01-D